SECURITIES AND EXCHANGE COMMISSION

Proposed Collection; Comment Request

Upon Written Request, Copies Available From: Securities and Exchange Commission, Office of Filings and Information Services, Washington, DC 20549

Extension:

Regulations 13D and 13G; Schedules 13D and 13G, SEC File No. 270-137, OMB Control No. 3235-0145 and

Form F-6 SEC File No. 270-270, OMB Control No. 3235-0292

Notice is hereby given that, pursuant to the Paperwork Reduction Act of 1995 (44 USC 3501 et seq.), the Securities and Exchange Commission (“Commission”) is soliciting comments on the collections of information summarized below. The Commission plans to submit these existing collections of information to the office of Management and Budget for extension and approval.

Schedules 13D and 13G are filed pursuant to sections 13(d) and 13(g) of the Securities Exchange Act and Regulations 13D and 13G thereunder to report beneficial ownership of equity securities registered under section 12 of the Exchange Act. Regulations 13D and 13G are intended to provide investors and subject issuers with information about accumulations of securities that may have the potential to change or influence control of the issuer. Schedules 13D and 13G are used by persons including small entities to report their ownership of more than 5% of a class of equity securities registered under section 12. Schedule 13D takes approximately 43,500 total burden hours and is filed by 3,000 respondents. The filer prepares 25% of the 43,500 annual burden hours for a total reporting burden of 10,875 hours. Schedule 13G takes approximately 98,800 total burden hours and is filed by 9,500 respondents. The filer prepares 25% of the 98,800 annual burden hours for a total reporting burden of 24,700 hours. Therefore, the reporting burden for both Schedules is 35,575 hours and they are prepared by a total of 12,500 respondents.

The Commission under section 19 of the Securities Act of 1933 established Form F-6 for registration of American Depositary Receipts (ADRs) of foreign companies. Form F-6 requires disclosure of information regarding the terms of depository bank, fees charged, and a description of the ADRs. No special information regarding the foreign company is required to be prepared or disclosed, although the foreign company must be one, which periodically furnishes information to the Commission. Such information is available to the public for inspection. The information is needed to ensure that investors in ADRs have full disclosure of information concerning the deposit agreement and foreign company. Approximately 150 respondents file Form F-6 and it takes .9 hours to prepare for a total of 135 annual burden hours. It is estimated that 25% of the 135 total burden hours (33.75 hours) is prepared by the company. The information provided on Form F-6 is mandatory to best ensure full disclosure of ADRs being issued in the U.S. All information provided to the Commission is available for public review upon request.

Written comments are invited on: (a) Whether these proposed collections of information are necessary for the proper performance of the functions of the agency, including whether the information will have practical utility; (b) the accuracy of the agency's estimate of burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Michael E. Bartell, Associate Executive Director, Office of Information Technology, Securities and Exchange Commission, 450 5th Street, NW., Washington DC. 20549.

Dated: July 24, 2002.
Margaret H. McFarland,
Deputy Secretary.

[FR Doc. 02-19532 Filed 8-1-02; 8:45 am]

BILLING CODE 8010-01-P